DEPARTMENT OF DEFENSE

Department of the Army; Corps of Engineers

Intent To Prepare a Supplemental Environmental Impact Statement for the Sacramento River Deep Water Ship Channel, California

AGENCY: Department of the Army, U.S. Army Corps of Engineers, DoD.

ACTION: Notice of intent.

SUMMARY: Pursuant to the National Environmental Policy Act (NEPA) of 1969, the U.S. Army Corps of Engineers, San Francisco District (Corps) in coordination with the Port of Sacramento intends to prepare a joint Supplemental Environmental Impact Statement (SEIS)/Supplemental Environmental Impact Report (SEIR) to evaluate the action of resuming construction of navigational improvements to the Sacramento River Deep Water Ship Channel (SRDWSC). This congressionally authorized project would deepen the existing Federal navigation channel from 30 feet to 35 feet (mean lower low water) and widen portions of the channel to improve navigational efficiency and safety. Deepening of the existing ship channel is anticipated to provide transportation cost savings as a result of movement of cargo via larger deeper draft vessels and movement of project-induced tonnage.

DATES: Written comments regarding the scope of the draft SEIS/SEIR must be submitted no later than 7 days after the scoping meeting date. See SUPPLEMENTARY INFORMATION section regarding the date of the scoping meeting.

ADDRESSES: Mail written comments to: Mr. David Patterson, U.S. Army Corps of Engineers, San Francisco District, 333 Market St. 822F, San Francisco, CA 94150-2197. See SUPPLEMENTARY INFORMATION section regarding the location of the scoping meeting.

FOR FURTHER INFORMATION CONTACT: Mr. David Patterson, (415) 977-8707.

SUPPLEMENTARY INFORMATION: The SRDWSC is located in the Sacramento-San Joaquin Delta region of northern California. The 46.5-mile long ship channel lies within Contra Costa, Solano, Sacramento, and Yolo Counties and serves the marine terminal facilities at the Port of Sacramento. The SRDWSC joins the existing 35-feet deep channel at New York Slough, thereby affording the Port of Sacramento access to San Francisco Bay Area harbors and the Pacific Ocean. This navigational improvement project was analyzed in the Feasibility Report and Final Environmental Impact Statement (1980), the General Design Memorandum and Final Supplemental Environmental Impact Statement (1986), and Environmental Assessments (1988, 1991, 1992). Navigational improvements to the SRDWSC were authorized in the Supplemental Appropriations of 1985 (Pub. L. 99-88). Construction to deepen the existing channel to 35 feet was initiated in 1989, but work was suspended in 1990 at the request of the Port of Sacramento. Two of six construction contracts, from River Mile 43 to 35, have been completed to date. The Corps has been directed by Congress to reevaluate the project and to recommend whether to resume construction.

The SEIS/SEIR will update the 1980 EIS and the 1986 SEIS and will evaluate changes to project conditions. The SEIS/SEIR will determine if there are significant new issues, information, or environmental concerns bearing on the proposed project and alternatives. The SEIS/SEIR will reexamine water and air quality issues, fish and wildlife impacts, and effects to endangered or threatened species. The impact of deepening on salinity intrusion and its effect on water quality in the Delta will be reexamined. Effects to water and air quality and fish and wildlife from dredging and disposal of dredged material at upland disposal sites will be reexamined. Additionally, the economic benefits of the proposed project and alternatives will be reexamined.

1. Proposed Action. The proposed project would complete the deepening and widening of the navigation channel to its authorized depth of 35 feet. Other features of the authorized plan, include the establishment of wetland/riparian habitat on prospect Island and lower Sherman Island to mitigate for project impacts and restore wetland habitat. These plan features will be reexamined for their feasibility and appropriateness for construction.

2. Alternatives. Alternative methods of moving goods trough the Port of Sacramento were studied in the original EIS and found to be less economically beneficial. These alternatives included No Action; increased use of LASH (Lighter Aboard Ship) barges; and increased use of intermodal transportation. The SEIS/SEIR will reanalyze the previously evaluated alternatives and may also evaluate whether a project depth shallower than the authorized 35 feet depth would be an acceptable project alternative.

3. Public Involvement. The Corps will hold a public environmental scoping meeting to discuss the scope of the draft SEIS/SEIR. The public scoping meeting location, date and time will be advertised in advance in local newspapers, and meeting announcement letters will be sent to interested parties. The draft SEIS/SEIR is expected to be available for a 45-day public review and comment period in December 2004. The Corps will announce availability of the draft in the Federal Register and other media, and will provide the public, organizations, and agencies with an opportunity to submit comments, which will be addressed in the final SEIS/SEIR. the final SEIS/SEIR is expected to be available for a 30-day review period in August 2005.

Michael McCormick,
Lieutenant Colonel, U.S. Army, District Engineer.

[FR Doc. 04-13014 Filed 6-8-04; 8:45 am]

BILLING CODE 3710-19-M